DEPARTMENT OF LABOR

Employment and Training Administration

Comment Request for Information Collection for the Workforce Innovation Fund (WIF) Grant Program, New Collection.

AGENCY: Employment and Training Administration (ETA), Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about Workforce Innovation Fund (WIF) [SGA/DFA PY-11-05] grant program.

DATES: Written comments must be submitted to the office listed in the addressee's section below on or before April 1, 2014.

ADDRESSES: Submit written comments to Employment and Training Administration, Office of Workforce Investment, Division of WIA Adult Services and Workforce System, 200 Constitution Avenue NW., Room S-4209, Washington, DC 20210, Attention: Wendy Slee. Telephone number: 202-693-3046 (this is not a toll-free number). Individuals with hearing or speech impairments may access the telephone number above via TTY by calling the toll-free Federal Information Relay Service at 1-877-889-5627 (TTY/TDD). Fax: 202-693-3817. Email: workforce.innovation@dol.gov. A copy of the proposed information collection request (ICR) can be obtained by contacting the person listed above.

SUPPLEMENTARY INFORMATION:

I. Background

The WIF was created as a grant program by the Full-Year Continuing Appropriations Act, 2011 (in Sec. 1801, Title VIII, Div. B of Pub. L. 112-10), and the first round of grants was awarded in June 2012, with service delivery beginning in 2013. According to this Act, the WIF was established to “carry out projects that demonstrate innovative strategies or replicate effective evidence-based strategies that align and strengthen the workforce investment system in order to improve program delivery and education and employment outcomes for program beneficiaries.” One of the purposes of the WIF grants is to contribute to the documentation of evidence-based practice within the field of workforce development.

This document requests approval to collect information to meet the reporting and recordkeeping requirements of the WIF grant program. In applying for the WIF grant program, grantees agreed to submit quarterly reports—both narrative and performance reports—that describe project activities and outcomes that relate to the project and document the training or labor market information approaches used by the grantee. The quarterly performance narrative report will provide a format for a detailed account of program activities, accomplishments, and progress toward performance outcomes during the quarter. These reports will collect aggregate information on participants' grant progress and accomplishments, grant challenges, grant technical assistance needs and success stories and lessons learned through five questions—four programmatic questions and one performance question. Because WIF grants tackle a range of employment and training services and strategies, each grant will have a unique set of performance goals and outcome measures designed by the grantee for the specific innovation and project being pursued in the grant. The fifth of the five questions in the quarterly performance narrative report will ask for performance data based on the unique grant performance measures and key project milestones identified by each grantee.

The information from these reports will be used to evaluate the performance of the WIF projects; manage performance risk; and collect lessons that are learned in terms of processes, strategies, and performance from the projects. The Employment and Training Administration (ETA) will use the data to help inform policy about the workforce and possible changes in structures and policies that enable a closer alignment and integration of workforce development, education, human services, social insurance, and economic development programs. The data will also be used to determine what technical assistance needs the WIF grantees have so that ETA can provide such assistance to support improvement of grantee outcomes.

The information provided in the quarterly performance narrative reports, including the lessons learned through innovative projects, is necessary for increasing the body of knowledge about what works in workforce development. This information collection maintains a reporting and record-keeping system for a minimum level of information collection that is necessary to hold WIF grantees appropriately accountable for the Federal funds they receive and to allow the Department to fulfill its oversight and management responsibilities.

To reduce grantee burden, grantees will only report on performance measures they identify in their project that are specifically applicable to their grant. This approach minimizes the reporting burden on grantees and encourages grantees to identify and document a new set of achievements and performance measures that apply directly to the grant projects.

II. Review Focus

The Department of Labor is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: New collection.

Title: Workforce Innovation Fund grant program.

OMB Number: 1205-0NEW.

Affected Public: Workforce Innovation Fund grant recipients.

Form(s): Quarterly narrative and performance reports.

Total Annual Burden Cost for Respondents: $0.

Estimated Total Burden Hours
Data collection activity | Number of respondents | Frequency | Total responses | Average time per response | Burden hours
Quarterly Performance Narrative Report | 26 | Quarterly | 104 | 20 | 2080

Comments submitted in response to this comment request will be summarized and/or included in the request for OMB approval of the ICR; they will also become a matter of public record.

Signed at Washington, DC, this 30th day of December, 2013.
Eric M. Seleznow,
Acting Assistant Secretary for Employment and Training Administration, Labor.

[FR Doc. 2014-02084 Filed 1-30-14; 8:45 am]

BILLING CODE 4510-FN-P